SECURITIES AND EXCHANGE COMMISSION

[Release No. 34-68510; File No. 4-657]

Decimalization Roundtable

AGENCY: Securities and Exchange Commission.

ACTION: Notice of roundtable discussion; request for comment.

SUMMARY: The staff of the Securities and Exchange Commission will host a one day roundtable to discuss the impact of tick sizes on small and mid-sized companies, market professionals, investors, and U.S. securities markets.

The roundtable discussion will be held in Room L-006 (the multi-purpose room) of the Securities and Exchange Commission headquarters at 100 F Street NE., in Washington, DC. The public is invited to observe the roundtable discussion. Seating will be available on a first-come, first-served basis. The roundtable discussion also will be available via webcast on the Commission's Web site at www.sec.gov.

DATES: The roundtable discussion will take place on February 5, 2013 from 10:00 a.m. to approximately 4:00 p.m.

ADDRESSES: Comments may be submitted by any of the following methods:

Electronic Comments

• Use the Commission's Internet comment form (http://www.sec.gov/rules/other.shtml); or

• Send an email to rule-comments@sec.gov. Please include File Number 4-657 on the subject line.

Paper Comments

• Send paper comments in triplicate to Elizabeth M. Murphy, Secretary, Securities and Exchange Commission, 100 F Street NE., Washington, DC 20549-1090.

All submissions should refer to File Number 4-657. This file number should be included on the subject line if email is used. To help us process and review your comments more efficiently, please use only one method. The Commission will post all comments on the Commission's Internet Web site (http://www.sec.gov/rules/other.shtml). Comments are also available for Web site viewing and printing in the Commission's Public Reference Room, 100 F Street NE., Washington, DC 20549, on official business days between the hours of 10:00 a.m. and 3:00 p.m. All comments received will be posted without change; we do not edit personal identifying information from submissions. You should submit only information that you wish to make available publicly.

FOR FURTHER INFORMATION CONTACT: Ilya Fradkin, Attorney Advisor, at (202) 551-5783, Division of Trading and Markets, Securities and Exchange Commission, 100 F Street NE., Washington, DC 20549-7010.

SUPPLEMENTARY INFORMATION: The roundtable will consist of three panels. The participants in the first panel will address the impact of tick sizes on small and middle capitalization companies, the economic consequences (including the costs and benefits) of increasing or decreasing minimum tick sizes, and whether other policy alternatives might better address the concerns animating Section 106(b) of the JOBS Act. The participants in the second panel will address the impact of tick sizes on the securities market in general, including what benefits may have been achieved, and what, if any, negative effects have resulted. The participants in the third panel will address potential methods for analysis of the issues, including whether and how to conduct a pilot for alternative minimum tick sizes.

By the Commission.
Dated: December 21, 2012.
Kevin M. O'Neill,
Deputy Secretary.

[FR Doc. 2012-31162 Filed 12-27-12; 8:45 am]

BILLING CODE 8011-01-P